NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Section Chief, Executive Resources, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

Micah Cheatham, Chief Management Officer

Irina Dolinskaya, Directorate Head, Directorate for Computer and Information Science and Engineering

Saul Gonzalez, Deputy Directorate Head, Directorate for Mathematical and Physical Sciences

Theresa Good, Directorate Head, Directorate for Biological Sciences

Simon Malcomber, Chief Science Officer, Chairperson

Clyde Richards, Office Head and Chief Information Officer, Office of the Chief Information Officer

Monya Ruffin, Deputy Directorate Head, Directorate for STEM Education

Angel Williams, General Counsel, Office of General Counsel

This announcement of the membership of the National Science Foundation's Senior Executive Service Performance Review Board is made in compliance with 5 U.S.C. 4314(c)(4).

Dated: September 2, 2025.
Suzanne H. Plimpton,
Reports Clearance Officer, National Science Foundation.

[FR Doc. 2025-16988 Filed 9-4-25; 8:45 am]

BILLING CODE 7555-01-P